DEPARTMENT OF HEALTH AND HUMAN SERVICES

Centers for Disease Control and Prevention

[60Day-07-07AE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Division of Oral Health Program Evaluation—NEW—National Center for Chronic Disease and Health Promotion (NCCDPHP), Centers for Disease Control and Prevention (CDC).

Background and Brief Description

In 2000, the Surgeon General published the first ever report on oral health in America to alert Americans to the full meaning of oral health and its importance to general health and wellbeing. Included in the framework for action was the charge to build an effective oral health infrastructure that meets the oral health needs of all Americans and integrates oral health effectively into overall health planning. In response, the CDC awarded funds for cooperative agreements to 12 state demonstration sites and 1 territory in two phases for the planning and implementation of oral health capacity, infrastructure building and demonstration delivery programs. Building infrastructure enables the demonstration states to develop the capacity to achieve Healthy People 2010 objectives and reach many more Americans than a single local program could reach by sustaining health gains beyond the funding cycle. Infrastructure development encompasses many activities, each of which can be accomplished in a myriad of methods by the grantees. To evaluate and summarize program processes and accomplishments, a 4-site case study is proposed. Obtaining uniform data of performance will allow the construction of summary reports to assist future sites and not-yet-funded oral health infrastructure development programs. Case study information would describe the implementation of each site's infrastructure model in relation to environmental context and state characteristics as well as the impacts of core infrastructure components for the purpose of program improvement. The results would provide information for the essential implementation strategies for effective infrastructure development as defined by the consensus-based Association of State and Territorial Dental Directors' (ASTDD) 2000 model. The results would be used to structure flexible guidelines for infrastructure development and identify high-priority activities enabling additional sites to efficiently plan and implement cost-effective oral health improvement activities. Additionally, this project will assist in the development of objectives and indicators of sustainability—the ability of these demonstration programs to meet the needs of their constituents beyond the seed-funding period.

The objectives of the case study project are to:

☐ Evaluate the progress made by programs in achieving national and program-specific goals and objectives as well as documenting reach and impact.

☐ Identify successful and innovative strategies and public health interventions to reduce the burden of oral diseases.

☐ Disseminate and share information among all grantees.

☐ Monitor the use of federal funds

☐ Evaluate and report on the overall effectiveness and implementation characteristics of the grantees.

☐ Promote positive infrastructure growth among funded and non-funded sites.

The above objectives will be attained through a case-study method using interviews designed to evaluate demographic, extent, and culture climate of infrastructure development activities. Up to 15 respondents from each site will be asked to participate in a one to two hour interview. Participation is voluntary for funded sites. 4 of 12 funded states will be asked to participate in the case-study interview project. Information obtained through the case-study interviews will be supported by documentation already submitted through routine reporting practices by all 12 funded states.

There are no costs to respondents except their time to participate in the interview.

Estimated Annualized Burden Hours
Respondents | Number of respondents | Number of responses per respondent | Average burden per response (in hours) | Total burden (in hours)
Dental Directors | 4 | 1 | 2 | 8
Program staff | 20 | 1 | 2 | 40
Coalition Leader/members | 12 | 1 | 2 | 24
Program Key informant | 24 | 1 | 2 | 48
Total |  |  |  | 120

Dated: December 15, 2006.
Joan F. Karr,
Acting Reports Clearance Officer, Centers for Disease Control and Prevention.

[FR Doc. E6-21931 Filed 12-21-06; 8:45 am]

BILLING CODE 4163-18-P